DEPARTMENT OF ENERGY

Federal Energy Regulatory Commission

[Docket No. EL01-105-001, et al.]

The New Power Company, et al.; Electric Rate and Corporate Regulation Filings

March 29, 2002.

Take notice that the following filings have been made with the Commission. Any comments should be submitted in accordance with Standard Paragraph E at the end of this notice.

1. The New Power Company v. PJM Interconnection, L.L.C.

[Docket No. EL01-105-001]

Take notice that on March 26, 2002, PJM Interconnection, L.L.C. (PJM) tendered for filing with the Federal Energy Regulatory Commission (Commission), pursuant to the Commission's February 27, 2002 “Order Denying Complaint,” revisions to the PJM Open Access Transmission Tariff (PJM Tariff), Schedule M, to implement requirements that the PJM Market Monitoring Unit notify the Commission of significant market problems that may require investigation, a change in the PJM Tariff or market rules, or action by the Commission and/or state commissions.

Copies of this filing have been served on all PJM Members and the state electric regulatory commission in the PJM region.

Comment Date: April 16, 2002.

2. New York Independent System Operator, Inc.

[Docket Nos. ER01-3155-002, ER01-1385-010 and EL01-45-009]

Take notice that on March 20, 2002, the New York Independent System Operator, Inc. (NYISO) filed with the Federal Energy Regulatory Commission (Commission) revisions to its Market Administration and Control Area Services Tariff in order to comply with the Commission's November 27, 2001 Order issued in above-referenced proceedings.

On March 26, 2002, NYISO filed two corrected pages to its Compliance Filing regarding Comprehensive Market Mitigation Measures and Request for Interim Extension of Existing Automated Mitigation Procedure.

The NYISO has served copies of these filings to all parties that have executed Service Agreements under the NYISO's Open-Access Transmission Tariff or Services Tariff, to the New York State Public Service Commission, the electric utility regulatory agencies in New Jersey and Pennsylvania and on the services lists in the above-referenced dockets.

Comment Date: April 16, 2002.

3. Pacific Gas and Electric Company

[Docket No. ER02-847-001]

Take notice that on March 27, 2002, Pacific Gas and Electric Company (PG&E) filed rate sheets with appropriate rate schedule and sheet designations in compliance with Order No. 614 and the March 20, 2002 Letter Order issued by the Director, Division of Tariffs and Rates—West accepting PG&E's true-up rates for the years 1998, 1999, and 2000, and rate schedule designations for PG&E First Revised Rate Schedule FERC No. 79, in the above-referenced docket.

Copies of this filing have been served upon the Western Area Power Administration and the California Public Utilities Commission.

Comment Date: April 17, 2002.

3. PSI Energy, Inc.

[Docket No. ER02-591-002]

Take notice that on March 27, 2002, PSI Energy, Inc. (PSI), tendered for filing with the Federal Energy Regulatory Commission (Commission) its Transmission and Local Facilities Agreement (Agreement) including Exhibits and the 2000 Reconciliation Summaries between PSI, Indiana Municipal Power Agency and Wabash Valley Power Association, Inc. The Agreement has been designated as PSI's Rate Schedule FERC No. 253.

Comment Date: April 17, 2002.

4. PSI Energy, Inc.

[Docket No. ER02-591-002]

Take notice that on March 27, 2002, PSI Energy, Inc. (PSI), tendered for filing with the Federal Energy Regulatory Commission (Commission) its Transmission and Local Facilities Agreement (Agreement) including Exhibits and the 2000 Reconciliation Summaries between PSI, Indiana Municipal Power agency and Wabash Valley Power Association, Inc. The Agreement has been designated as PSI's Rate Schedule FERC No. 253.

Comment Date: April 17, 2002.

5. Central Maine Power Company

[Docket No. ER02-1393-000]

Take notice that on March 27, 2002, Central Maine Power Company (CMP) filed a revised “Service Agreement For Local Network Transmission Service For Retail Customers” (LNS Agreement) which describes the terms and conditions of delivery service being provided by CMP and being taken by Calpine Construction Finance Company, L.P. (Calpine) in connection with its generating facility in Westbrook, Maine.

Comment Date: April 17, 2002.

6. Michigan Electric Transmission Company

[Docket No. ER02-1394-000]

Take notice that on March 27, 2002, Michigan Electric Transmission Company (Michigan Transco) tendered for filing A Notice of Cancellation of Transmission Service Agreements between Michigan Transco and Nordic Electric, LLC (Service Agreement No. 12 under the International Transmission Company/Michigan Transco's Joint FERC Electric Tariff No. 1) and between Michigan Transco and DTE Energy Marketing (Service Agreement No. 1 under the International Transmission Company/Michigan Transco's Joint FERC Electric Tariff No. 1), effective December 31, 2001.

Copies of this filing have been served on DTE Energy Marketing and Nordic Electric, LLC.

Comment Date: April 17, 2002.

7. Rochester Gas and Electric Corporation

[Docket No. ES02-27-000]

Take notice that on March 27, 2002, Rochester Gas and Electric Corporation submitted an application pursuant to section 204 of the Federal Power Act seeking authorization to issue short-term securities in the aggregate amount of $200 million pursuant to (1) a $30 million promissory note with the Chase Manhattan Bank, N.A. backed by a Security and Loan Agreement, and (2) various promissory notes issued under lines of credit with various banks.

Comment Date: April 19, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-8501 Filed 4-8-02; 8:45 am]

BILLING CODE 6717-01-P